DEPARTMENT OF THE INTERIOR

Fish and Wildlife Service

[FWS-HQ-IA-2012-N273; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before December 17, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: NOAA Fisheries/Pacific Islands Regional Office, Honolulu, HI; PRT-022729

The applicant requests reissuance of their permit to introduce from the high seas samples and/or whole carcasses of green sea turtle (Chelonia mydas), leatherback sea turtle (Dermochelys coriacea), hawksbill sea turtle (Eretmochelys imbricata), olive ridley sea turtle (Lepidochelys olivacea), Kemp's ridley sea turtle (Lepidochelys kempii), and short-tailed albatross (Diomedea albatrus) for the purpose of enhancement of the species through scientific research. This notice covers activities conducted by the applicant over a 5-year period.

Applicant: Dallas Zoo, Dallas, TX; PRT-89103A

The applicant requests a permit to re-import two captive bred Western gorillas (Gorilla gorilla) from Canada for the purpose of enhancement of propagation or survival of the species.

Applicant: Eugene & Janelle Herrmann, Shoreline, WA; PRT-226351

The applicant requests renewal of their captive-bred wildlife registration under 50 CFR 17.21(g) for radiated tortoise (Astrochelys radiata) and spotted pond turtle (Geoclemys hamiltonii) to enhance their propagation or survival. This notification covers activities to be conducted by the applicant over a 5-year period.

Applicant: Life Fellowship Bird Sanctuary, Seffner, FL; PRT-680582

The applicant requests renewal of their captive-bred wildlife registration under 50 CFR 17.21(g) for the following families and species, to enhance their propagation or survival. This notification covers activities to be conducted by the applicant over a 5-year period.

Families:

Psittacidae (does not include thick-billed parrots)

Species:

Galapagos tortoise (Chelonoidis nigra)

Radiated tortoise (Astrochelys radiata)

Applicant: Reid Park Zoo, Tucson, AZ; PRT-677573

The applicant requests renewal of their captive-bred wildlife registration under 50 CFR 17.21(g) for the following families, to enhance their propagation or survival. This notification covers activities to be conducted by the applicant over a 5-year period.

Families:

Bovidae

Cebidae

Cercopithecidae

Equidae

Felidae (does not include jaguar, margay, or ocelot)

Hominidae

Hylobatidae

Macropodidae

Tapiridae

Columbidae

Rheidae

Sturnidae (does not include Aplonis pelzelni)

Applicant: Springhill Wildlife Park, Calvert, TX; PRT-002692

The applicant requests renewal of their captive-bred wildlife registration under 50 CFR 17.21(g) for the leopard (Panthera pardus) to enhance their propagation or survival. This notification covers activities to be conducted by the applicant over a 5-year period.

Applicant: Utah's Hogle Zoo, Salt Lake City, UT; PRT-680356

The applicant requests renewal of their captive-bred wildlife registration under 50 CFR 17.21(g) for the following families, to enhance their propagation or survival. This notification covers activities to be conducted by the applicant over a 5-year period.

Families:

Cebidae

Cercopithecidae

Felidae

Lemuridae

Hominidae

Applicant: Festival Fun Parks LLC, dba Silver Springs Attraction, Silver Springs, FL; PRT-734011

The applicant requests renewal of their captive-bred wildlife registration under 50 CFR 17.21(g) for the following families and species, to enhance their propagation or survival. This notification covers activities to be conducted by the applicant over a 5-year period.

Families:

Bovidae

Cebidae

Hylobatidae

Lemuridae

Tapiridae

Ursidae

Alligatoridae

Crocodylidae (includes Gavials)

Testudinidae

Applicant: Lionshare Farm Zoological LLC, Greenwich, CT; PRT-88756A

The applicant requests a permit to import one captive-bred male and one captive-bred female cheetah (Acinonyx jubatus) from the Hoedspruit Endangered Species Center, South Africa, for the purpose of enhancement of the survival of the species.

Applicant: Global Health and Education Foundation, Danville, CA; PRT 71447A

The applicant requests a permit to export the following whole mount trophies; three dama gazelle (Nanger dama), one barasingha (Rucervus duvaucelii), one Eld's deer (Rucervus eldii), one Arabian oryx (Oryx leucoryx), two Scimitar horned oryx (Oryx dammah), and one addax (Addax nasomaculatus) culled from captive herds maintained in the state of Texas to Shanghai Science and Technology Museum, Shanghai, China, for the purpose of enhancement of the survival of the species.

Applicant: Richard Gracy, Dripping Springs, TX; PRT-76015A

The applicant requests a captive-bred wildlife registration under 50 CFR 17.21(g) for the scimitar-horned oryx (Oryx dammah) and addax (Addax nasomaculatus) to enhance the species' propagation or survival. This notification covers activities to be conducted by the applicant over a 5-year period.

Applicant: Richard Gracy, Dripping Springs, TX; PRT-76016A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: Sheila Emerson, Chatham, VA; PRT-83683A

The applicant requests a captive-bred wildlife registration under 50 CFR 17.21(g) for the golden parakeet (Guarouba guarouba) to enhance their propagation or survival. This notification covers activities to be conducted by the applicant over a 5-year period.

Applicant: Daniel Ray, Palmer, TX; PRT-84309A

The applicant requests a captive-bred wildlife registration under 50 CFR 17.21(g) for the scimitar-horned oryx (Oryx dammah) to enhance the species' propagation or survival. This notification covers activities to be conducted by the applicant over a 5-year period.

Applicant: Coleman Ranches Ltd., Ackerly, TX; PRT-83485A

The applicant requests a captive-bred wildlife registration under 50 CFR 17.21(g) for the scimitar-horned oryx (Oryx dammah) and addax (Addax nasomaculatus) to enhance the species' propagation or survival. This notification covers activities to be conducted by the applicant over a 5-year period.

Applicant: Coleman Ranches Ltd., Ackerly, TX; PRT-89067A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: David Brigham, Austin, TX; PRT-85304A

The applicant requests a captive-bred wildlife registration under 50 CFR 17.21(g) for the scimitar-horned oryx (Oryx dammah) to enhance the species' propagation or survival. This notification covers activities to be conducted by the applicant over a 5-year period.

Applicant: Rafter O Ranch, Junction, TX; PRT-86456A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Rafter O Ranch, Junction, TX; PRT-86676A

The applicant requests a permit authorizing interstate and foreign commerce, export, and cull of excess scimitar-horned oryx (Oryx dammah) from the captive herd maintained at their facility, for the purpose of enhancement of the survival of the species. This notification covers activities to be conducted by the applicant over a 5-year period.

Applicant: Campo De Rio Medio Ranch, Corpus Christi, TX; PRT-86465A

The applicant requests a captive-bred wildlife registration under 50 CFR 17.21(g) for the scimitar-horned oryx (Oryx dammah) to enhance the species' propagation or survival. This notification covers activities to be conducted by the applicant over a 5-year period.

Applicant: Hondeaux Oaks, LLC, Hondo, TX; PRT-86469A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Hondeaux Oaks, LLC, Hondo, TX; PRT-86609A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: Double Arrow Bow Hunting, Harwood, TX; PRT-88038A

The applicant requests a captive-bred wildlife registration under 50 CFR 17.21(g) for the barasingha (Rucervus duvaucelii) and scimitar-horned oryx (Oryx dammah), to enhance the species' propagation or survival. This notification covers activities to be conducted by the applicant over a 5-year period.

Applicant: Double Arrow Bow Hunting, Harwood, TX; PRT-88044A

The applicant requests a permit authorizing interstate and foreign commerce, export, and cull of excess barasingha (Rucervus duvaucelii) and scimitar-horned oryx (Oryx dammah) from the captive herd maintained at their facility, for the purpose of enhancement of the survival of the species. This notification covers activities to be conducted by the applicant over a 5-year period.

Applicant: Still Fox Ranch, San Antonio, TX; PRT-88288A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), bontebok (Damaliscus pygargus pygargus), dama gazelle (Nanger dama), and red lechwe (Kobus leche), to enhance the species' propagation or survival. This notification covers activities to be conducted by the applicant over a 5-year period.

Applicant: Still Fox Ranch, San Antonio, TX; PRT-88290A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: Circle E Ranch, Bedias, TX; PRT-88649A

The applicant requests a captive-bred wildlife registration under 50 CFR 17.21(g) for the barasingha (Rucervus duvaucelii), scimitar-horned oryx (Oryx dammah), addax (Addax nasomaculatus), dama gazelle (Nanger dama), and red lechwe (Kobus leche), to enhance the species' propagation or survival. This notification covers activities to be conducted by the applicant over a 5-year period.

Applicant: Circle E Ranch, Bedias, TX; PRT-88651A

The applicant requests a permit authorizing interstate and foreign commerce, export, and cull of excess barasingha (Rucervus duvaucelii), scimitar-horned oryx (Oryx dammah), addax (Addax nasomaculatus), and red lechwe (Kobus leche) from the captive herd maintained at their facility, for the purpose of enhancement of the survival of the species. This notification covers activities to be conducted by the applicant over a 5-year period.

Applicant: Jonathan Stewart, Albuquerque, NM; PRT-88840A

The applicant requests a captive-bred wildlife registration under 50 CFR 17.21(g) for the golden parakeet (Guarouba guarouba) to enhance their propagation or survival. This notification covers activities to be conducted by the applicant over a 5-year period.

Applicant: Wild Wonders Zoofari, Bonsall, CA; PRT-88777A

The applicant requests a permit to import one captive-bred female cheetah (Acinonyx jubatus) from the De Wildt Cheetah Breeding Center, South Africa, for the purpose of enhancement of the survival of the species.

Applicant: Living Treasures Wild Animal Park, New Castle, PA; PRT-88909A

The applicant requests a captive-bred wildlife registration under 50 CFR 17.21(g) for the following species, to enhance their propagation or survival. This notification covers activities to be conducted by the applicant over a 5-year period.

Species:

Ring-tailed lemur (Lemur catta)

Black and white ruffed lemur (Varecia variegata)

Red ruffed lemur (Varecia rubra)

Cotton-top tamarin (Saguinus oedipus)

Lar gibbon (Hylobates lar)

Leopard (Panthera pardus)

Grevy's Zebra (Equus grevyi)

Asian Wild Ass (Equus hemionus)

South American tapir (Tapirus terrestris)

Red lechwe (Kobus leche)

Salmon-crested cockatoo (Cacatua moluccensis)

Radiated tortoise (Astrochelys radiata)

Galapagos tortoise (Chelonoidis nigra)

Applicant: Clifton Lincoln, Dartmouth, MA; PRT-88901A

The applicant requests a captive-bred wildlife registration under 50 CFR 17.21(g) for the radiated tortoise (Astrochelys radiata) to enhance their propagation or survival. This notification covers activities to be conducted by the applicant over a 5-year period.

Applicant: Azlin Taxidermy, Clute, TX; PRT-79576A

The applicant request a permit to export the sport-hunted trophy of one addax (Addax nasomaculatus) and one scimitar horned oryx (oryx dammah) culled from a captive herd in the state of Texas, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Dale Watkins, Phoenix, AZ; PRT-89174A

Applicant: Thomas Hoffmann, Little Rock, AR; PRT-89172A

Applicant: Armand Brachman, Corcoran, MN; PRT-89040A

Applicant: Brittany Phillips, Houston, TX; PRT-78891A

Brenda Tapia,
Program Analyst/Data Administrator, Branch of Permits, Division of Management Authority.

[FR Doc. 2012-27937 Filed 11-15-12; 8:45 am]

BILLING CODE 4310-55-P